DEPARTMENT OF HOMELAND SECURITY

Coast Guard

[Docket No. USCG-2016-0165]

Port Access Route Study (PARS): In Nantucket Sound

AGENCY: Coast Guard, DHS.

ACTION: Notice of study; final report.

SUMMARY: The U.S. Coast Guard (USCG) conducted the Nantucket Sound Port Access Route Study (PARS) in accordance with the Ports and Waterways Safety Act (PWSA) (33 U.S.C. 1223(c)), as directed by the Coast Guard Authorization Act of 2015. The USCG used the standards and methodology of the Atlantic Coast PARS to determine whether existing regulations should be revised to improve navigation safety in Nantucket Sound due to factors such as increased vessel traffic, changing vessel traffic patterns, weather conditions, or navigational difficulty. The report, as submitted to the Committee on Transportation and Infrastructure of the House of Representatives and the Committee on Commerce, Science, and Transportation of the Senate on February 27, 2017, is available in the docket for viewing. It concluded that no regulatory changes to existing vessel routing measures are needed.

FOR FURTHER INFORMATION CONTACT: If you have questions on this notice, email D01-SMB-NantucketPARS@uscg.mil.

SUPPLEMENTARY INFORMATION:

Discussion

The Nantucket Sound PARS considered whether existing regulations should be revised to improve navigation safety in Nantucket Sound due to factors such as vessel traffic density, vessel traffic patterns, weather conditions, or navigation challenges in the study area. All available sources of data relevant to this process, including existing and potential traffic patterns, existing regulations, public submissions, and other factors were analyzed. Although the study recommended no regulatory changes to existing vessel routing measures, the USCG will continue to actively monitor and initiate appropriate actions on all waterways subject to its jurisdiction as needed to support navigation safety.

Public Participation and Comments

On March 22, 2016, we published a Notice of Study; request for comments entitled “Port Access Route Study (PARS): In Nantucket Sound” in the Federal Register (81 FR 15327). Six comments were received in response to our Federal Register Notice and other outreach efforts.

Viewing Documents and Comments

To view the final report as submitted to Congress and comments, go to http://www.regulations.gov, type “USCG-2016-0165” into the search bar and click search, next to the displayed search results click “Open Docket Folder”, which will display all comments and documents associated with this study.

Privacy Act

Anyone can search the electronic form of comments received to the docket by the name of the individual submitting the comment (or signing the comment, if submitted on behalf of an association, business, labor union, etc.). You may review a Privacy Act notice regarding our public dockets in the January 17, 2008, issue of the Federal Register (73 FR 3316).

Conclusion

The Nantucket Sound PARS focused on gathering factual and relevant information to aid the USCG assess potential risk of marine casualties and efficiency of vessel traffic in the region. The USCG analyzed vessel traffic density, hazards, agency and stakeholder experience in vessel traffic management, navigation, ship handling, the effects of weather, and impacts to marine mammals and other wildlife. The USCG also considered public comments in the final report. The Nantucket Sound PARS concluded that no regulatory changes to existing vessel routing measures are needed but reiterated that the USCG actively monitors all waterways subject to its jurisdiction to help ensure navigation safety. As such, the USCG will continue to monitor Nantucket Sound for changing conditions and consider appropriate actions to promote waterway and user safety.

Dated: March 10, 2017.
S.D. Poulin,
Rear Admiral, U.S. Coast Guard, Commander, First Coast Guard District.

[FR Doc. 2017-06088 Filed 3-27-17; 8:45 am]

BILLING CODE 9110-04-P